DEPARTMENT OF ENERGY

Federal Energy Regulatory Commission

[Project No. 349-157]

Alabama Power Company; Notice of Application for Amendment of License and Soliciting Comments, Motions To Intervene, and Protests

November 7, 2008.

Take notice that the following hydroelectric application has been filed with the Commission and is available for public inspection:

a. Application Type: Non-Project Use of Project Lands and Waters.

b. Project No: 349-157.

c. Date Filed: October 24, 2008.

d. Applicant: Alabama Power Company.

e. Name of Project: Martin Dam Project.

f. Location: The proposal would be located on the Kowaliga Creek, in Elmore County, Alabama. The project does not contain any Federal or Tribal lands.

g. Filed Pursuant to: Federal Power Act, 16 U.S.C. 791a-825r.

h. Applicant Contact: Keith Bryant, APC Hydro Services, 600 18th Street North, Birmingham, AL; (205) 257-1403.

i. FERC Contact: Gina Krump, Telephone (202) 502-6704, and e-mail: Gina.Krump@ferc.gov.

j. Deadline for filing comments, motions to intervene, and protest: December 8, 2008.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Alabama Power Company is seeking Commission approval to issue a permit to Russell Lands, Inc. (Russell) to modify existing facilities at Kowaliga Marina, an existing commercial marina. The existing facilities include three floating dock structures, with a total of 104 boat rental slips; two floating dock structures with 26 courtesy slips, a floating gas dock with eight slips and four personal watercraft berths, a fork lift ramp/dock and a boat ramp. Russell proposes to remove the courtesy dock structure with six slips located at the boat ramp, and move an existing dock with 20 slips beside the existing boat ramp. Russell also proposes to add one double boat slip to its fuel dock providing a total of 10 boat slips, extend the existing forklift ramp by 40 feet, and install four new floating dock structures totaling 47 boat slips and 28 personal watercraft slips. Russell proposes to dredge approximately 34 cubic yards of material in order to allow access for the two shoreline slips at the proposed new courtesy dock.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call (866) 208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E8-27067 Filed 11-13-08; 8:45 am]

BILLING CODE 6717-01-P